DEPARTMENT OF DEFENSE

Office of the Secretary

Defense Science Board; Meeting Date Change of Advisory Committee Meeting

SUMMARY: The Defense Science Board (DSB) Task Force on Systems Technology for the Future U.S. Strategic Posture closed meeting scheduled for March 14-15, 2001, has been changed to March 29-30, 2001. The meeting will be held at Strategic Analysis Inc., 3601 Wilson Boulevard, Suite 600, Arlington, VA.

Dated: March 1, 2001.
L. M. Bynum,
Alternate OSC Federal Register Liaison Officer, Department of Defense.

[FR Doc. 01-5617 Filed 3-7-01; 8:45 am]

BILLING CODE 5001-10-M